FEDERAL COMMUNICATIONS COMMISSION

Notice of Public Information Collection(s) Being Reviewed by the Federal Communications Commission for Extension Under Delegated Authority, Comments Requested

November 8, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning:

(a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees

The FCC may not conduct or sponsor a collection of information unless it displays a currently valid OMB control number. No person shall be subject to any penalty for failing to comply with a collection of information subject to the Paperwork Reduction Act (PRA) that does not display a valid OMB control number.

DATES: Persons wishing to comment on this information collection should submit their PRA comments January 18, 2011. If you anticipate that you will be submitting comments, but find it difficult to do so within the period of time allowed by this notice, you should advise the contact listed below as soon as possible.

ADDRESSES: Submit all PRA comments to Nicholas A. Fraser, Office of Management and Budget (OMB), via fax at 202-395-5167, or via the Internet at Nicholas_A._Fraser@omb.eop.gov and to Judith-B.Herman@fcc.gov, Federal Communications Commission (FCC). To submit your PRA comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith- B.Herman@fcc.gov or contact her at 202-418-0214.

SUPPLEMENTARY INFORMATION: OMB Control Number: 3060-1143.

Title: E-Rate Deployed Ubiquitously (EDU) 2011 Pilot Program.

Form No.: N/A.

Type of Review: Extension of a currently approved collection.

Respondents: Business or other for-profit, not-for-profit institutions, and State, local or Tribal government.

Number of Respondents: 110 respondents; 110 responses.

Estimated Time per Response: 2 hours to 5 hours.

Frequency of Response: One time reporting requirement and third party disclosure requirement.

Obligation to Respond: Voluntary. Statutory authority for this information collection is contained in 47 U.S.C. sections 154-154, 201-205, 218-220, 254, 303(r), 403 and 405.

Total Annual Burden: 250 hours.

Total Annual Cost: N/A.

Privacy Act Impact Assessment: N/A.

Nature and Extent of Confidentiality: The Commission is not requesting that the respondents submit confidential information to the Commission. If the Commission requests applicants to submit information that the respondents believe is confidential, respondents may request confidential treatment of such information under 47 CFR 0.459 of the Commission's rules.

Needs and Uses: The Commission will submit this expiring information collection to the Office of Management and Budget (OMB) after this 60 day comment period in order to obtain the full three year clearance from them. The Commission is requesting an extension (no change in the reporting and/or third party disclosure requirements) of this information collection. The Commission is reporting no change in their burden estimates.

On October 5, 2010 the Commission sought emergency processing from the Office of Management and Budget (OMB) of this new information collection. The Commission received OMB approval on October 21, 2010. Emergency OMB approvals are only granted for six months. In order to keep the OMB approval from lapsing, the Commission is now conducting the regular PRA processes to obtain the full three year clearance from them. The Commission will submit this extension to the OMB after this 60 day comment period.

On September 28, 2010, consistent with the vision outlined in the National Broadband Plan (NBP), the Federal Communications Commission (FCC) released a Sixth Report and Order (Sixth R&O), FCC 10-175, upgrading and modernizing the schools and libraries universal services support program (also known as the E-rate program) to bring fast, affordable Internet access to schools and libraries across the country, and eliminating rules that no longer serve the intended purpose. These changes will help ensure that America's students can learn and develop the high-tech skills necessary to compete in the 21st century economy.

As part of the Sixth R&O, the Commission launched a pilot program—EDU 2011 Pilot Program—that supports off-campus wireless Internet connectivity for mobile learning devices. Specifically, the Commission established this trial program to investigate the merits and challenges of wireless off-premises connectivity services, and to help the Commission determine whether and how those services should ultimately be eligible for E-rate support. The information may be used to offer E-rate support. The information requested may be used to offer E-rate support for the upcoming funding year (which starts July 1, 2011 and ends June 30, 2012) under this pilot program to fund wireless connections to a small number of selected applicants.

Specifically, to be considered for EDU 2011 Pilot Program funding, E-rate eligible applicants must have implemented or already be in the process of implementing a program to provide off-premises connectivity to students or library patrons through the use of portable wireless devices.

The application must contain the following information:

(1) A description of the current or planned program, how long it has been in operation, and a description of any improvements or other changes that would be made if E-rate funding were received for funding year 2011;

(2) Identification of the costs associated with implementing the program including, for example, costs for equipment such as e-readers or laptops, access and connection charges, teacher training, librarian training, or student/parent training;

(3) Relevant technology plans;

(4) A description of how the program complies with the Children's Internet Protection Program Act (CIPPA) and adequately protects against waste, fraud, and abuse;

(5) A copy of internal policies and enforcement procedures governing acceptable use of the wireless device off the school's and library's premises;

(6) For schools, a description of the program's curriculum objectives, the grade levels included, and the number of students and teachers involved in the program; and

(7) For schools, any data collected on program outcomes.

Additionally, after the trial period, applicants will be required to submit a report to the Commission's Wireline Competition Bureau detailing any data collected as a result of the program and a narrative describing lessons learned from the program that would assist other schools and libraries desiring to adopt similar programs in the future.

Marlene H. Dortch,
Secretary, Federal Communications Commission.

[FR Doc. 2010-29013 Filed 11-16-10; 8:45 am]

BILLING CODE 6712-01-P